DEPARTMENT OF THE INTERIOR

National Park Service

National Park Service, Golden Gate National Recreation Area and Point Reyes National Seashore Advisory Commission; Notice of Meeting Cancellation

Notice is hereby given in accordance with the Federal Advisory Committee Act that the meeting of the Golden Gate National Recreation Area and Point Reyes National Seashore Advisory Commission previously scheduled for Tuesday, April 18, 2000 in San Francisco will be canceled.

The Advisory Commission was established by Public Law 92-589 to provide for the free exchange of ideas between the National Park Service and the public and to facilitate the solicitation of advice or other counsel from members of the public on problems pertinent to the National Park Service systems in Marin, San Francisco and San Mateo Counties. Members of the Commission are as follows:

Mr. Richard Bartke, Chairman,

Ms. Amy Meyer, Vice Chair,

Ms. Susan Giacomini Allan,

Mr. Douglas Siden,

Mr. Michael Alexander,

Mr. Dennis J. Rodoni,

Ms. Lennie Roberts,

Ms. Yvonne Lee,

Ms. Carlota del Portillo,

Mr. Trent Orr,

Mr. Redmond Kernan,

Ms. Betsey Cutler,

Mr. Gordon Bennett,

Ms. Anna-Marie Booth,

Mr. John J. Spring,

Dr. Edgar Wayburn,

Mr. Mel Lane,

Mr. Doug Nadeau.

Dated: March 31, 2000.
Brian O'Neill,
General Superintendent, Golden Gate National Recreation Area.

[FR Doc. 00-8881 Filed 4-10-00; 8:45 am]

BILLING CODE 4310-70-P